DEPARTMENT OF ENERGY

Federal Energy Regulatory Commission

[Docket No. RP00-163-001]

Kern River Gas Transmission Company; Notice of Compliance Filing

January 27, 2000.

Take notice that on January 20, 2000, Kern River Gas Transmission Company (Kern River) tendered for filing as part of its FERC Gas Tariff, First Revised Volume No. 1, the following tariff sheets, to be effective January 13, 2000.

Tenth Revised Sheet No. 500-A

Tenth Revised Sheet No. 600-A

Tenth Revised Sheet No. 700-A

Ninth Revised Sheet No. 891

Kern River states that the purpose of this filing is to submit corrected tariff sheets in compliance with the Commission's Letter Order issued January 19, 2000.

Kern River states that it has served a copy of this filing upon its customers and interested state regulatory commissions.

Any person desiring to protest this filing should file a protest with the Federal Energy Regulatory Commission, 888 First Street, N.E., Washington, D.C. 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-2186 Filed 2-1-00; 8:45 am]

BILLING CODE 6717-01-M